DEPARTMENT OF LABOR

Employment and Training Administration

[TA-W-61,813]

Wyeth Pharmaceuticals; Rouses Point, NY; Notice of Termination of Investigation

Pursuant to Section 221 of the Trade Act of 1974, an investigation was initiated on July 11, 2007 in response to a worker petition filed by a company official on behalf of workers at Wyeth Pharmaceuticals, Rouses Point, New York.

The petitioner has requested that the petition be withdrawn. Consequently, the investigation has been terminated.

Signed at Washington, DC, this 26th day of July, 2007.
Richard Church,
Certifying Officer, Division of Trade Adjustment Assistance.

[FR Doc. E7-14999 Filed 8-1-07; 8:45 am]

BILLING CODE 4510-FN-P